DEPARTMENT OF DEFENSE

Department of the Army

[Docket ID: USA-2022-HQ-0011]

Submission for OMB Review; Comment Request

AGENCY: U.S. Army Corps of Engineers (USACE), Department of Defense (DoD).

ACTION: 30-Day information collection notice.

SUMMARY: The DoD has submitted to OMB for clearance the following proposal for collection of information under the provisions of the Paperwork Reduction Act.

DATES: Consideration will be given to all comments received by September 21, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Interviews Assessing Community Awareness of Dam and Levee Risks and Benefits; OMB Control Number 0710-DAMS.

Type of Request: New collection.

Number of Respondents: 60.

Responses per Respondent: 1.

Annual Responses: 60.

Average Burden per Response: 75 minutes.

Annual Burden Hours: 75 hours.

Needs and Uses: USACE is requesting approval to collect information via interviews to inform strategic communications planning for the USACE Dam and Levee Safety Programs. The information collection will target a diverse sample of communities affected by dams and or levees. Information collected in interviews will inform USACE's understanding of communities' levels of awareness, knowledge, means of knowledge acquisition, and behavioral responses related to the risks and benefits of dams and/or levees. Engagement with community stakeholders and representatives of local populations will provide USACE with information on how best to communicate the benefits and risks of dams and levees with the goal of enhancing flood risk management. Insights from this information collection will be used to develop guidance and toolkits for the Dam and Levee Safety Programs.

Affected Public: Individuals or households.

Frequency: Once.

Respondent's Obligation: Voluntary.

OMB Desk Officer: Mr. Matthew Oreska.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 16, 2022.
Kayyonne T. Marston,
Alternate OSD Federal Register Liaison Officer, Department of Defense.

[FR Doc. 2022-17972 Filed 8-19-22; 8:45 am]

BILLING CODE 5001-06-P